DEPARTMENT OF ENERGY

Federal Energy Regulatory Commission

[Docket No. CP02-1-000]

Southern Natural Gas Company; Notice of Intent To Prepare an Environmental Assessment for the Proposed South System Expansion II Project and Request for Comments on Environmental Issues

November 16, 2001.

The staff of the Federal Energy Regulatory Commission (FERC or Commission) will prepare an environmental assessment (EA) that will discuss the environmental impacts of the South System Expansion II Project involving construction and operation of facilities by Southern Natural Gas Company (Southern) in St. Tammany Parish, Louisiana; Clarke, Lauderdale, and Jefferson Davis Counties, Mississippi; Sumter, Marengo, Hale, Perry, Autauga, Elmore, Tallapoosa, and Lee Counties, Alabama; and Harris, Talbot, Monroe, Bibb, Jones, Baldwin, Washington, Jefferson, Richmond, Upson, Effingham, and Chatham Counties, Georgia.¹ These facilities consist of about 123.3 miles of 36-, 30-, and 24-inch-diameter pipeline, modifications to 9 existing compressor stations, construction of a new compressor station on the site of a previously abandoned compressor station, taps, and a meter station. The EA will be used by the Commission in its decision-making process to determine whether the project is in the public convenience and necessity.

¹ Southern's application was filed with the Commission on October 1, 2001, under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Southern provided to landowners. This fact sheet addresses a number of typically asked questions, including the use of eminent domain and how to participate in the Commission's proceedings. It is available for viewing on the FERC Internet website (www.ferc.fed.us).

Summary of the Proposed Project

Southern is proposing the South System Expansion II Project to expand its existing mainline system and increase capacity of its facilities in Louisiana, Mississippi, Alabama, and Georgia to supply increased quantities of gas to existing local distribution customers due to population growth in the region and the increasing demand for energy resources. The expansion of its facilities would enable Southern to provide for additional firm transportation capacity to serve eight shippers. This project would allow Southern to deliver 359,891 thousand cubic feet per day (Mcfd) of gas to these shippers.

Southern proposes to construct, install, and operate certain pipeline loops, compression, a meter station, and other appurtenances, in two phases. Phase I would consist of the facilities necessary to provide about 320,714 Mcfd of gas, and Phase II would consist of the facilities necessary to provide the remaining 39,177 Mcfd of gas.

Southern proposes to construct and operate the following facilities:

Phase I Facilities

• 36-inch South Main 3rd Loop Line (Loop 1): about 13.9 miles of 36-inch-diameter pipeline loop ² of its South Main Line System from milepost (MP) 75.9 in Clarke County, Mississippi to MP 89.8 in Lauderdale County, Mississippi;

² A loop is a segment of pipeline that is installed adjacent to an existing pipeline and connected to it on both ends. The loop allows more gas to be moved through the pipeline system.

• 36-inch South Main 3rd Loop Line (Loop 2): about 9.6 miles of 36-inch-diameter pipeline loop of its South Main Line System from MP 115.7 in Sumter County, Alabama to MP 125.3 in Marengo County, Alabama;

• 36-inch South Main 4th Loop Line (Loop 3): about 11.0 miles of 36-inch-diameter pipeline loop of its South Main Line System from MP 138.9 to MP 149.9 in Hale County, Alabama;

• 30-inch South Main 3rd Loop Line (Loop 4): about 3.4 miles of 30-inch-diameter pipeline loop of its South Main Line System from MP 164.5 to MP 167.9 in Perry County, Alabama;

• 36-inch South Main 3rd Loop Line (Loop 5): about 7.9 miles of 36-inch-diameter pipeline loop of its South Main Line System from MP 197.9 to MP 205.8 in Autauga County, Alabama;

• 30-inch South Main 4th Loop Line (Loop 6): about 16.7 miles of 30-inch-diameter pipeline loop of its South Main Line System from MP 233.3 in Elmore County, Alabama to MP 250.0 in Tallapoosa County, Alabama;

• 30-inch South Main 3rd Loop Line (Loop 7): about 5.7 miles of 30-inch-diameter pipeline loop of its South Main Line System from MP 278.1 to MP 283.8 in Lee County, Alabama;

• 36-inch South Main 3rd Loop Line (Loop 8): about 16.6 miles of 36-inch-diameter pipeline loop of its South Main Line System from MP 311.6 in Harris County, Georgia to MP 328.2 in Talbot County, Georgia;

• 30-inch South Main 2nd Loop Line (Loop 9): about 9.5 miles of 30-inch-diameter pipeline loop of its South Main Line System from MP 362.7 to MP 372.2 in Monroe County, Georgia;

• 30-inch South Main 3rd Loop Line (Loop 10): about 7.6 miles of 30-inch diameter pipeline loop of its South Main Line system from MP 380.6 in Bibb County, Georgia to MP 388.2 in Jones County, Georgia;

• 24-inch South Main 2nd Loop Line (Loop 12): about 12.6 miles of 24-inch-diameter pipeline loop of its South Main Line System from MP 465.0 in Jefferson County, Georgia to MP 477.6 in Richmond County, Georgia; and

• One new meter station (Port Wentworth-SCANA Meter Station) at about MP 104.6 on its 20-inch-diameter Wrens-Savannah 2nd Loop Line in Chatham County, Georgia.

Southern also proposes to install compression and make other modifications at the following compressor stations:

• Add one 12,000 horsepower (hp) centrifugal compressor at the LaCombe Compressor Station in St. Tammany Parish, Louisiana. This would be a new compressor station built on an existing site where the original compressor station was previously dismantled;

• Rewheel compression on one existing unit at the Gwinville Compressor Station in Jefferson Davis County, Mississippi;

• Add one 6,000 hp high-speed engine driven reciprocating compressor at the Enterprise Compressor Station in Clarke County, Mississippi;

• Add one 15,000 hp centrifugal compressor and the removal of a 5,880 hp unit at the Gallion Compressor Station in Hale County, Alabama;

• Add one 15,000 hp centrifugal compressor, the installation of unloaders on one existing unit, and the removal of a 5,400 hp unit at the Elmore Compressor Station in Elmore County, Alabama;

• Add one 6,000 hp reciprocating compressor at the Ellerslie Compressor Station in Harris County, Georgia;

• Add one 4,000 hp reciprocating compressor at the Ocmulgee Compressor Station in Bibb County, Georgia;

• Add two 3,550 hp high-speed engine driven reciprocating compressors at the Hall Gate Compressor Station in Baldwin County, Georgia; and

• Add two 3,550 hp high-speed engine driven reciprocating compressors at the Wrens Compressor Station in Jefferson County, Georgia.

Southern also proposes to construct two dual 12-inch taps at about MP 94.5 on its existing 20-inch and 14-inch Wrens-Savannah Lines in Effingham County, Georgia; two dual 12-inch taps at about MP 491.2 on its existing 16-inch South Main and Loop Lines in Richmond County, Georgia; and two 8-inch taps at about MP 104.6 on its existing 20-inch Wrens Savannah Lines in Chatham County, Georgia.

Further, Southern proposes to remove previously abandoned pipe from its existing right-of-way at several locations. On Loop 5, in Autauga County, Alabama, Southern proposes to remove a total of about 6.3 miles of 12-inch pipe between MP 197.9 and MP 200.0, and MP 201.6 and MP 205.8 of its existing South Main Line System. On Loop 6, in Elmore and Tallapoosa Counties, Alabama, Southern proposes to remove a total of about 1.4 miles of 12-inch pipe between MP 233.3 and MP 233.9; MP 241.2 and MP 241.5; and MP 246.7 and 247.2 of its existing South Main Line System.

Phase II Facilities

• 30-inch South Main 2nd Loop Line (Loop 9): about 4.0 miles of 30-inch-diameter pipeline loop of its South Main Line system from MP 372.2 to MP 376.2 in Monroe County, Georgia; and

• 30-inch South Main 3rd Loop Line (Loop 11): about 4.8 miles of 30-inch-diameter pipeline loop of its South Main Line System from MP 420.2 in Baldwin County, Georgia to MP 425.0 in Washington County, Georgia.

Southern also proposes to install compression and make other modifications at the following compressor station:

• Add one 4,730 hp high-speed engine driven reciprocating compressor at the Thomaston Compressor Station in Upson County, Georgia.

The general location of Southern's proposed facilities is shown on the map attached as appendix 1.³

³ The appendices referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

Land Requirements for Construction

Construction of Southern's proposed facilities would require about 1,488 acres of land, including construction right-of-way for the loops, taps, and the meter station; and extra work areas needed for pipe storage yards, staging areas, and warehouse sites. The majority of the loops would be constructed directly adjacent to Southern's existing rights-of-way. For the construction of the 30- and 36-inch-diameter loop segments, Southern proposes to use a 95-foot-wide construction right-of-way, which includes a 25-to 55-foot overlap of the existing right-of-way for workspace and temporary spoil storage. For the installation of the 24-inch-diameter pipeline on Loop 12, Southern proposes to use a 75-foot-wide construction right-of-way, which includes a 60-foot overlap of the existing right-of-way, with 15-feet of new temporary construction right-of-way to be cleared. Because of the use of Southern's existing right-of-way for construction, Southern indicates that only about 107 acres would be maintained as new permanent right-of-way.

The upgrades and modifications to the compressor stations would be performed within the existing Southern facilities, and would not require the clearing of additional land.

Construction access to Southern's project generally would be via the construction right-of-way and existing road network. Southern has identified 135 existing private access roads necessary for the construction of its project.

The EA Process

The National Environmental Policy Act (NEPA) requires the Commission to take into account the environmental impacts that could result from an action whenever it considers the issuance of a Certificate of Public Convenience and Necessity. NEPA also requires us ⁴ to discover and address concerns the public may have about proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁴ “We”, “us”, and “our”, refer to the environmental staff of the Office of Energy Projects (OEP).

The EA will discuss impacts that could occur as a result of the construction and operation of the proposed project under these general headings:

• Geology and soils

• Water resources and wetlands

• Vegetation and wildlife reliability and safety

• Threatened and endangered

• Cultural resources

• Land use

• Air quality and noise species

We will evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 8.

Currently Identified Environmental Issues

We have already identified several issues that we think deserve attention based on a preliminary review of the proposed facilities and the environmental information provided by Southern. This preliminary list of issues may be changed based on your comments and our analysis.

• Water Resources and Wetlands

—Crossing 91 perennial waterbodies.

—Crossing 29 wetlands, including 42.8 acres of forested wetlands.

• Vegetation

—About 354.5 acres of upland forest to be cleared.

—Potential impact on 7 Federally-listed threatened and endangered plant species.

• Threatened and Endangered Species

—Potential impact on 6 Federally-listed bird species.

—Potential impact on 3 Federally-listed reptile species.

—Potential impact on 3 Federally-listed fish species.

—Potential impact on 13 Federally-listed invertebrate species.

—Potential impact on 2 Federally-listed amphibian species.

• Soils

—About 33.6 miles of the pipeline right-of-way have soils with a high susceptibility to erosion.

—Crossing about 36.0 miles of prime farmland.

• Land Use

—Impact on 41 residences located within 50 feet of the construction work area.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send an original and two copies of your letter to: David P. Boergers, Secretary, Federal Energy Regulatory Commission, 888 First St., N.E., Room 1A, Washington, DC 20426;

• Label one copy of the comments for the attention of Gas 1, PJ-11.1;

• Reference Docket No. CP02-1-000; and

• Mail your comments so that they will be received in Washington, DC on or before December 17, 2001.

Comments, protests, and interventions may be filed electronically via the Internet in lieu of paper. See 18 CFR 385.2001(a)(1)(iii) and the instructions on the Commission's Web site under the “e-Filing” link.

If you do not want to send comments at this time but still want to remain on our mailing list, please return the Information Request (appendix 3). If you do not return the Information Request, you will be removed from the environmental mailing list.

Due to current events, we cannot guarantee that we will receive mail on a timely basis from the U.S. Postal Service, and we do not know how long this situation will continue. However, we continue to receive filings from private mail delivery services, including messenger services in a reliable manner. The Commission encourages electronic filing of any comments or interventions or protests to this proceeding. We will include all comments that we receive within a reasonable time frame in our environmental analysis of this project.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Copies of this filing are on file with the Commission and are available for public inspection. This filing may also be viewed on the Web at http://www.ferc.gov using the “RIMS” link, select “Docket #” and follow the instructions (call 202-208-2222 for assistance).

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-29238 Filed 11-21-01; 8:45 am]

BILLING CODE 6717-01-P